DEPARTMENT OF COMMERCE

National Technical Information Service

National Technical Information Service Advisory Board; Solicitation of Applications for National Technical Information Service Advisory Board Membership

AGENCY: National Technical Information Service, Commerce.

ACTION: Notice.

SUMMARY: The National Technical Information Service (NTIS) is seeking qualified candidates to serve as members of the NTIS Advisory Board (Board). The Board will meet at least semiannually to advise the Secretary of Commerce, the Under Secretary for Technology, and the Director of NTIS on NTIS's mission, general policies and fee structure.

DATES: Applications must be received no later than August 11, 2005.

ADDRESSES: Applications should be submitted to Director, National Technical Information Service, 5285 Port Royal Road, Springfield, Virginia 22161.

FOR FURTHER INFORMATION CONTACT: Steven D. Needle (703) 605-6404.

SUPPLEMENTARY INFORMATION: The National Technical Information Service (NTIS) is seeking five qualified members to serve as members of its Advisory Board, one of whom will also be designated chairperson. The Board was established pursuant to Section 3704(c) of Title 15, United States Code. It will meet at least semiannually to advise the Secretary of Commerce, the Under Secretary for Technology, and the Director of NTIS on NTIS' mission, general policies and fee structure. Members will be appointed by the Secretary and will serve for three-year terms. They will receive no compensation but will be authorized travel and per diem expenses. NTIS is seeking candidates who can provide guidance on trends in the information industry and changes in the way NTIS's customers acquire and use its products and services. Interested candidates should submit a resume and a statement explaining their interest in serving on the Board.

Dated: June 27, 2005.
Benjamin H. Wu,
Acting Director.

[FR Doc. 05-13639 Filed 7-11-05; 8:45 am]

BILLING CODE 3510-04-P